DEPARTMENT OF TRANSPORTATION

Federal Aviation Administration

RTCA Special Committee 194; ATM Data Link Implementation

Pursuant to section 10(a)(2) of the Federal Advisory Committee Act (Pub. L. 92-463, 5 U.S.C., Appendix 2), notice is hereby given for Special Committee 194 meeting to be held April 25, starting at 9:00 a.m. The meeting will be held at RTCA, 1140 Connecticut Ave., NW., Suite 1020, Washington, DC 20036.

The agenda will include: Plenary Session: (1) Welcome and Introductory Remarks; (2) Review Meeting Agenda; (3) This will be a special Plenary Session held exclusively to confirm comment resolution on the complete Special Committee (SC)-194 Working Group-2 Document, Concepts for Services Integrating Flight Operations and Air Traffic Management Using Addressed Data Link; (4) Other Business; (5) Closing.

Attendance is open to the interested public but limited to space availability. With the approval of the chairman, members of the public may present oral statements at the meeting. Persons wishing to present statements or obtain information should contact the RTCA Secretariat, 1140 Connecticut Avenue, NW., Suite 1020, Washington, DC. 20036; (202) 833-9339 (phone); (202) 833-9434 (fax); or http://www.rtca.org (web site). Members of the public may present a written statement to the committee at any time.

Issued in Washington, DC, on March 21, 2001.
Janice L. Peters,
Designated Official.

[FR Doc. 01-7499 Filed 3-26-01; 8:45 am]

BILLING CODE 4910-13-M